DEPARTMENT OF HOUSING AND URBAN DEVELOPMENT

[Docket No. FR-6302-C-02]

Changes in Certain Office of Healthcare Programs Insurance Premiums; Correction

AGENCY: Office of General Counsel, HUD.

ACTION: Notice, correction.

SUMMARY: On May 19, 2022, HUD published a notice in the Federal Register entitled, “Changes in Certain Office of Healthcare Programs Insurance Premiums.” The notice contained a chart showing FHA Office of Health Care Facilities Insurance Premiums by Rate & Category. That chart incorrectly listed current upfront capitalized mortgage insurance premium (MIP) basis points for some of the listed programs. Additionally, the chart contained an incorrect note related to MIPs. Today's notice corrects the chart and associated note in the notice published on May 19, 2022.

DATES: Applicable: August 12, 2022.

FOR FURTHER INFORMATION CONTACT: John Hartung, Director, Policy, Risk Analysis & Lender Relations Division, Office of Residential Care Facilities, Office of Healthcare Programs, Office of Housing, Department of Housing and Urban Development, 1222 Spruce Street, St. Louis, MO 63103-2836; telephone: 314-418-5238 (this is not a toll-free number). Persons with hearing or speech impairments may access this number through TTY by calling the toll-free Federal Information Relay Service at 800-877-8339 (this is a toll-free number).

SUPPLEMENTARY INFORMATION: On May 19, 2022 (87 FR 30510) (FR Doc. 2022-10539), HUD issued a public notice announcing proposed mortgage insurance premium (MIP) changes to an earlier October 2, 2015, notice, for certain commitments issued or reissued beginning October 1, 2022.

The May 19, 2022, notice contained a chart that incorrectly listed current upfront capitalized MIP basis points for 232 NC/SR Healthcare Facilities w/o LIHTC, 232 NC/SR Healthcare Facilities with LIHTC, 223(d) Operating Loss Loan for Healthcare Facilities, 241(a) Supp. Loan for Healthcare Facilities w/o LIHTC, 241(a) Supp. Loan for Healthcare Facilities with LIHTC, 242 Hospitals, and 241(a) Supplemental Loans for Hospitals as each being 100. Under the October 2, 2015, notice, the correct current up front capitalized MIP basis points for each of these categories is, respectively, 77, 45, 95, 72, 45, 70, and 65. Additionally, the May 19, 2022, notice contained a note to the chart that contained inaccurate and inapplicable information related to current upfront basis points.

Correction

In the Federal Register of May 19, 2022, in FR Doc. 2020-10539, on pages 30512-30513, replace the chart titled “FHA Office of Health Care Facilities Insurance Premiums By Rate & Category” with the following:

FHA Office of Health Care Facilities Insurance Premiums by Rate & Category
Category | Current upfront capitalized MIP * basis points | Green and energy efficient: upfront capitalized MIP * basis points, effective 10-01-22 | Current annual MIP basis points | Green and energy efficient: annual MIP basis points, effective 10-01-22
Section 232 Healthcare Facilities (SNF, ALF, B&C):
232 NC/SR Healthcare Facilities w/o LIHTC | 77 | 25 | 77 | 25
232 NC/SR—Assisted Living Facilities with LIHTC | 45 | 25 | 45 | 25
232/223(f) Refi for Healthcare Facilities w/o LIHTC | 100 | 25 | 65 | 25
232/223(f) Refi for Healthcare Facilities with LIHTC | 100 | 25 | 45 | 25
232/223(a)(7) Refi of Healthcare Facilities w/o LIHTC | 50 | 25 | 55 | 25
232/223(a)(7) Refi of Healthcare Facilities with LIHTC | 50 | 25 | 45 | 25
223(d) Operating Loss Loan for Healthcare Facilities | 95 | n/a | 95 | n/a
241(a) Supp. Loan for Healthcare Facilities w/o LIHTC | 72 | 25 | 72 | 25
241(a) Supp. Loan for Healthcare Facilities with LIHTC | 45 | 25 | 45 | 25
223(i) Fire Safety Equipment Loan | 100 | n/a | 100 | n/a
Section 242 FHA Hospital Insurance Program:
242 Hospitals | 70 | n/a | 70 | n/a
223(a)(7) Refinance of Existing FHA-Insured Hospital | 50 | n/a | 55 | n/a
223(f) Refinance or Purchase of Existing Non-FHA-Insured Hospital | 100 | n/a | 65 | n/a
241(a) Supplemental Loans for Hospitals | 65 | n/a | 65 | n/a
* MIP premiums are separate and apart from (and in addition to) the application fees.

Aaron Santa Anna,
Associate General Counsel for Legislation and Regulations.

[FR Doc. 2022-17306 Filed 8-11-22; 8:45 am]

BILLING CODE 4210-67-P